DEPARTMENT OF ENERGY

Federal Energy Regulatory Commission

[Docket No. CP23-536-000]

Eastern Shore Natural Gas Company; Notice of Availability of the Environmental Assessment for the Proposed Worcester Resiliency Upgrade Project

The staff of the Federal Energy Regulatory Commission (FERC or Commission) has prepared an environmental assessment (EA) for the Worcester Resiliency Upgrade Project, proposed by Eastern Shore Natural Gas Company (Eastern Shore) in the above-referenced docket. Eastern Shore requests authorization to construct and operate facilities in Somerset, Wicomico, and Worcester counties, Maryland, and Sussex County, Delaware.

Eastern Shore proposes to install five liquified natural gas (LNG) storage vessels and LNG vaporizers in Worcester County, Maryland, approximately 1.1 miles of 10-inch-diameter pipeline looping in Sussex County, Delaware and Wicomico County, Maryland, upgrades to an existing pressure control station in Sussex County, Delaware, and upgrades to three existing meter and regulating stations in Sussex County, Delaware and Worcester and Somerset Counties, Maryland. The Worcester Resiliency Upgrade Project would store approximately 475,000 gallons of LNG, equivalent to 39,627 Dekatherms, and provide 14,000 Dekatherms per day of corresponding peak firm natural gas transportation service. According to Eastern Shore, its project would enhance the resiliency of Eastern Shore's system.

The EA assesses the potential environmental effects of the construction and operation of the Worcester Resiliency Upgrade Project in accordance with the requirements of the National Environmental Policy Act (NEPA). The FERC staff concludes that approval of the proposed project would not constitute a major federal action significantly affecting the quality of the human environment.

The Department of Transportation Pipeline and Hazardous Materials Safety Administration participated as a cooperating agency in the preparation of the EA. Cooperating agencies have jurisdiction by law or special expertise with respect to resources potentially affected by the proposal and participate in the NEPA analysis.

Specifically, the proposed Project includes construction and operation of five new facilities and upgrades to four existing facilities in Sussex County, Delaware, and Wicomico, Worcester, and Somerset Counties, Maryland including:

• Bishopville Facility, Worcester County, Maryland: construct a 10.6-acre LNG storage and vaporization facility situated within a rural 135-acre parcel that includes five 100,000-gallon horizontal storage vessels, with vaporization equipment and pumping systems to convert LNG to vapor for pipeline transport;

• Bishopville Tie-in, Worcester County, Maryland: construct 0.4 mile of 8-inch-diameter pipeline to connect the Bishopville Facility to an Eastern Shore's existing Milford pipeline;

• Millsboro Controller Upgrade, Sussex County, Delaware: upgrade existing station to install two new control valve runs to provide pressure and directional control;

• Millsboro Tie-in, Sussex County, Delaware: construct 0.4 mile of 10-inch-diameter pipeline extension to connect the upgraded Millsboro Controller to the Eastern Shore's existing Milford pipeline;

• Berlin Meter and Regulator (M&R) Upgrade, Worcester County, Maryland: replace approximately 350 feet of existing belowground 3-inch tie-in with a new 6-inch tie-in;

• Thompson M&R Upgrade, Somerset County, Maryland: upgrade existing M&R station, replacing the existing meters;

• Selbyville M&R Upgrade, Sussex County, Delaware: replace existing M&R station with new meter and regulator facilities;

• Delmar Receiver, Wicomico County, Maryland: install new aboveground Rupture Mitigation Valve (RMV) and In-line Inspection (ILI) Receiver and an access road located at the new connection between the Delmar Loop and the Parkesburg Line at the southern end of the Delmar Loop collocated east of US Route 13 (US 13); and

• Delmar Loop, Wicomico County, Maryland and Sussex County, Delaware: construct 1.1 miles of 10-inch diameter looping natural gas pipeline collocated with an existing Eastern Shore pipeline and US 13.

The Commission mailed a copy of the Notice of Availability of the Environmental Assessment for the Worcester Resiliency Upgrade Project to federal, state, and local government representatives and agencies; elected officials; environmental and public interest groups; Native American tribes; potentially affected landowners and other interested individuals and groups; and newspapers and libraries in the project area. The EA is only available in electronic format. It may be viewed and downloaded from the FERC's website (www.ferc.gov), on the natural gas environmental documents page (https://www.ferc.gov/industries-data/natural-gas/environment/environmental-documents). In addition, the EA may be accessed by using the eLibrary link on the FERC's website. Click on the eLibrary link (https://elibrary.ferc.gov/eLibrary/search), select “General Search” and enter the docket number in the “Docket Number” field, excluding the last three digits (i.e., CP23-536). Be sure you have selected an appropriate date range. For assistance, please contact FERC Online Support at FercOnlineSupport@ferc.gov or toll free at (866) 208-3676, or for TTY, contact (202) 502-8659.

The EA is not a decision document. It presents Commission staff's independent analysis of the environmental issues for the Commission to consider when addressing the merits of all issues in this proceeding. Any person wishing to comment on the EA may do so. Your comments should focus on the EA's disclosure and discussion of potential environmental effects, reasonable alternatives, and measures to avoid or lessen environmental impacts. The more specific your comments, the more useful they will be. To ensure that the Commission has the opportunity to consider your comments prior to making its decision on this project, it is important that we receive your comments in Washington, DC on or before 5:00pm Eastern Time on May 28, 2024.

For your convenience, there are three methods you can use to file your comments to the Commission. The Commission encourages electronic filing of comments and has staff available to assist you at (866) 208-3676 or FercOnlineSupport@ferc.gov. Please carefully follow these instructions so that your comments are properly recorded.

(1) You can file your comments electronically using the eComment feature on the Commission's website (www.ferc.gov) under the link to FERC Online. This is an easy method for submitting brief, text-only comments on a project;

(2) You can also file your comments electronically using the eFiling feature on the Commission's website (www.ferc.gov) under the link to FERC Online. With eFiling, you can provide comments in a variety of formats by attaching them as a file with your submission. New eFiling users must first create an account by clicking on “eRegister.” You must select the type of filing you are making. If you are filing a comment on a particular project, please select “Comment on a Filing”; or

(3) You can file a paper copy of your comments by mailing them to the Commission. Be sure to reference the project docket number (CP23-536-000) on your letter. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852.

Filing environmental comments will not give you intervenor status, but you do not need intervenor status to have your comments considered. Only intervenors have the right to seek rehearing or judicial review of the Commission's decision. At this point in this proceeding, the timeframe for filing timely intervention requests has expired. Any person seeking to become a party to the proceeding must file a motion to intervene out-of-time pursuant to Rule 214(b)(3) and (d) of the Commission's Rules of Practice and Procedures (18 CFR 385.214(b)(3) and (d)) and show good cause why the time limitation should be waived. Motions to intervene are more fully described at https://www.ferc.gov/how-intervene.

Additional information about the project is available from the Commission's Office of External Affairs, at (866) 208-FERC, or on the FERC website (www.ferc.gov) using the eLibrary link. The eLibrary link also provides access to the texts of all formal documents issued by the Commission, such as orders, notices, and rulemakings.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

In addition, the Commission offers a free service called eSubscription which allows you to keep track of all formal issuances and submittals in specific dockets. This can reduce the amount of time you spend researching proceedings by automatically providing you with notification of these filings, document summaries, and direct links to the documents. Go to https://www.ferc.gov/ferc-online/overview to register for eSubscription.

Dated: April 26, 2024.
Debbie-Anne A. Reese,
Acting Secretary.

[FR Doc. 2024-09597 Filed 5-2-24; 8:45 am]

BILLING CODE 6717-01-P